DEPARTMENT OF THE TREASURY

Office of Foreign Assets Control

Identification of Three Entities as Government of Libya Entities Pursuant to Executive Order 13566

AGENCY: Department of the Treasury.

ACTION: Notice.

SUMMARY: The Treasury Department's Office of Foreign Assets Control (“OFAC”) is publishing the names of three entities identified on May 5, 2011 as persons whose property and interests in property are blocked pursuant to Section 2 of Executive Order 13566 of February 25, 2011, “Blocking Property and Prohibiting Certain Transactions Related to Libya.”

DATES: The identification by the Director of OFAC of the three entities identified in this notice, pursuant to Executive Order 13566 of February 25, 2011, is effective May 5, 2011.

FOR FURTHER INFORMATION CONTACT: Assistant Director, Compliance Outreach & Implementation, Office of Foreign Assets Control, Department of the Treasury, Washington, DC 20220, Tel.: 202/622-2490.

SUPPLEMENTARY INFORMATION:

Electronic and Facsimile Availability

This document and additional information concerning OFAC are available from OFAC's Web site (http://www.treas.gov/ofac) or via facsimile through a 24-hour fax-on-demand service, Tel.: 202/622-0077.

Background

On February 25, 2011, the President issued Executive Order 13566, “Blocking Property and Prohibiting Certain Transactions Related to Libya” (the “Order”) pursuant to, inter alia, the International Emergency Economic Powers Act (50 U.S.C. 1701-06).

Section 2 of the Order blocks all property and interests in property that are in the United States, that come within the United States, or that are or come within the possession or control of any United States person, including any overseas branch, of the Government of Libya, its agencies, instrumentalities, and controlled entities, and the Central Bank of Libya.

On May 5, 2011, the Director of OFAC, identified, pursuant to Section 2 of the Order, three entities whose property and interests in property are blocked. The listing for these entities is as follows:

Entities

1. Libyan Jamahiriya Broadcasting Corporation, POB 333, Ahsaat Street, Tripoli, Libya; E-mail Address info@ljbc.net; alt. E-mail Address info@en.ljbc.net; Web site http://www.ljbc.net; alt. Web site http://www.en.ljbc.net; Telephone no. (218) (21) (4445926); Fax no. (218) (21) (3402107) [Libya2]

2. Dalia Advisory Ltd, 11 Upper Brook Street, London W1K 6PB, United Kingdom [Libya2]

3. Lafico Algeria Holding (a.k.a. Lafico Algeria), Street 19, Freres Addour, Bir Mourad Rais, Chafaa Adour, Algiers 16300, Algeria; E-mail Address laficoalgeria@hotmail.com; Telephone no. (213) (21) (541703); Telephone no. (213) (21) (541110); Fax no. (213) (21) (541704) [Libya2]

Dated: May 5, 2011.
Adam J. Szubin,
Director, Office of Foreign Assets Control.

[FR Doc. 2011-11962 Filed 5-16-11; 8:45 am]

BILLING CODE 4810-AL-P